DEPARTMENT OF VETERANS AFFAIRS

[OMB Control No. 2900—New (DES)]

Agency Information Collection (Survey of Satisfaction With the Disability Evaluation System (DES)) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before June 7, 2010.

ADDRESSES: Submit written comments on the collection of information through http://www.Regulations.gov; or to VA's OMB Desk Officer, OMB Human Resources and Housing Branch, New Executive Office Building, Room 10235, Washington, DC 20503 (202) 395-7316. Please refer to “OMB Control No. 2900-New (DES)” in any correspondence.

FOR FURTHER INFORMATION CONTACT: Denise McLamb, Enterprise Records Service (005R1B), Department of Veterans Affairs, 810 Vermont Avenue, NW., Washington, DC 20420, (202) 461-7485, FAX (202) 273-0443 or e-mail: denise.mclamb@va.gov. Please refer to “OMB Control No. 2900-New (DES).”

SUPPLEMENTARY INFORMATION:

Title: Survey of Satisfaction with the Disability Evaluation System (DES).

OMB Control Number: 2900-New (DES).

Type of Review: New collection.

Abstract: Data obtained through the DES survey will be used to evaluate and, if necessary, revise the way the DES Pilot is conducted in an effort to raise customer service standards.

An agency may not conduct or sponsor, and a person is not required to respond to a collection of information unless it displays a currently valid OMB control number. The Federal Register Notice with a 60-day comment period soliciting comments on this collection of information was published on March 1, 2010, at page 9279.

Affected Public: Individuals or households.

Estimated Annual Burden: 37 hours.

Estimated Average Burden per Respondent: 15 minutes.

Frequency of Response: One time.

Estimated Number of Respondents: 149.

Dated: May 4, 2010.
By direction of the Secretary.
Denise McLamb,
Program Analyst, Enterprise Records Service.

[FR Doc. 2010-10795 Filed 5-6-10; 8:45 am]

BILLING CODE 8320-01-P